DEPARTMENT OF COMMERCE

National Oceanic and Atmospheric Administration

Agency Information Collection Activities; Submission to the Office of Management and Budget (OMB) for Review and Approval; Comment Request; Alaska Interagency Electronic Reporting System (IERS)

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 24, 2020.

ADDRESSES: Interested persons are invited to submit written comments to Adrienne Thomas, NOAA PRA Officer, at Adrienne.thomas@noaa.gov. Please reference OMB Control Number 0648-0515 in the subject line of your comments. Do not submit Confidential Business Information or otherwise sensitive or protected information.

FOR FURTHER INFORMATION CONTACT: Requests for additional information or specific questions related to collection activities should be directed to Gabrielle Aberle, 907-586-7228.

SUPPLEMENTARY INFORMATION:

I. Abstract

The National Marine Fisheries Services (NMFS), Alaska Regional Office, is requesting extension of a currently approved information collection for the Alaska Interagency Electronic Reporting System (IERS).

IERS is a fisheries data collection system that enables the management of commercial fisheries off Alaska and is supported through a partnership among the NMFS Alaska Regional Office, the Alaska Department of Fish and Game (ADF&G), and the International Pacific Halibut Commission (IPHC). IERS provides the Alaska fishing industry with a consolidated, electronic means of reporting commercial fish and shellfish information to multiple management agencies through a single reporting system. The recordkeeping and reporting requirements for IERS are located at 50 CFR 679.5.

Users enter information into IERS using three main components, depending on their internet access and transmission capability:

• eLandings provides web-based access for shoreside and stationary floating processors to submit landings and production information and also by some catcher/processors and motherships who have access to the internet to submit their data.

• seaLandings is a fishery harvest reporting software program that functions without constant internet connectivity and is installed on computer workstations. The seaLandings interface targets at-sea vessels with limited access to the web (typically for catcher/processors and motherships which report at sea). Landings, production, and eLog information can be sent from seaLandings via direct transmission (a report file is zipped up and sent over the internet and processed behind the scenes) or via email.

• tLandings is a USB-installed program that tender vessels with no web access can use to enter landings information.

Through IERS, NMFS collects information on landings, production, and effort for groundfish and crab species to support the agency's management responsibilities. IERS has four main information collections: Registration, landing reports, production reports, and electronic logbooks. Landing reports document the harvest of fish and shellfish that is sold, discarded, or retained by the fisherman. Production reports provide information on the amount of processed product that is generated by processors. Logbooks provide information about where and when fishing effort occurs. NMFS uses information collected in IERS for in-season and inter-season management decisions that affect the fishery resources and the fishing industry that uses those resources.

Information collected through the IERS promotes the goals and objectives of fishery management plans, the Magnuson-Stevens Fishery Conservation and Management Act, and other applicable laws. Collecting information from fishery participants is necessary for successful management of groundfish, crab, Pacific halibut, and salmon resources.

Compared with paper forms and conventional logbooks, IERS is a more convenient, accurate, and timely method of fisheries reporting. Benefits of IERS include improved data quality, automated processing of data, improved process for correcting or updating information, availability of more timely data for fishery managers, and reduction of duplicative reporting of similar information to multiple agencies. Additionally, IERS provides continuous online access to individual accounts for participants.

This renewal will incorporate the change request associated with the rule for Amendment 121 to Fishery Management Plan for Groundfish of the Bering Sea and Aleutian Islands Management Area and Amendment 110 to Fishery Management Plan for Groundfish of the Gulf of Alaska (RIN 0648-BJ49). The proposed rule published in the Federal Register on April 23, 2020 (85 FR 22703). Publication of the final rule is expected later this year prior to approval of the renewal of this information collection. The rule reclassifies sculpins as a non-target ecosystem component (EC) species and makes minor revisions to the information collection requirements to clarify the location of the species code for sculpins in the tables to 50 CFR part 679 to note that sculpins should be reported as non-target EC species rather than target species.

II. Method of Collection

The eLandings registration, landing reports, production reports, and electronic logbooks are submitted via the internet. For catcher/processors and motherships that do not have reliable internet service, seaLandings can be used to generate report files for submitting via email. Tender vessels that do not have access to email or the internet can enter the information electronically on a USB drive that is later uploaded to eLandings over the internet. eLandings registration and the out-of-state landing report may be submitted by fax.

III. Data

OMB Control Number: 0648-0515.

Form Number(s): None.

Type of Review: Regular submission (extension of a current information collection).

Affected Public: Individuals or households; Business or other for-profit organizations.

Estimated Number of Respondents: 206.

Estimated Time per Response: eLandings registration, 15 minutes; electronic logbooks, 15 minutes; shoreside processor production report, 10 minutes; at-sea processor production report, 20 minutes; mothership landing report, 10 minutes; out-of-state landing report, 20 minutes; shoreside processor and catcher processor, landing reports, 30 minutes each; registered buyer and registered crab receiver landing reports, 60 minutes each.

Estimated Total Annual Burden Hours: 22,850 hours.

Estimated Total Annual Cost to Public: $5,639 in recordkeeping/reporting costs.

Respondent's Obligation: Mandatory.

Legal Authority: 16 U.S.C. 1801 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-13530 Filed 6-23-20; 8:45 am]

BILLING CODE 3510-22-P